NATIONAL CAPITAL PLANNING COMMISSION

Public Comment Period on the Draft Comprehensive Plan for the National Capital: Federal Elements

AGENCY: National Capital Planning Commission.

ACTION: Release of the Draft Comprehensive Plan for the National Capital: Federal Elements and authorization for public comment.

SUMMARY: The National Capital Planning Commission has released a draft of the Federal Elements of the Comprehensive Plan for the National Capital for public review. The Federal Elements cover matters relating to Federal properties and Federal interests in the National Capital Region and serves as a blueprint for the long-term development of the National Capital. The plan provides the decisionmaking framework for actions that the Commission takes on specific plans and proposals submitted for its review. Plan elements include: Federal Workplace: Location, Impact, and the Community; Foreign Missions and International Organizations; Transportation; Parks and Open Space; Federal Environment; Preservation and Historic Features; and Visitors. The Commission updated the plan to address new policy issues and planning concerns that have surfaced since the previous adoption of the Federal elements in the mid-1980s. The revised elements respond to the changing needs of the Federal Government and the Nation's capital and provide goals and policies for future Federal development in the Washington area.

DATES: An initial public comment meeting was held on Wednesday, March 24, 2004, and an additional meeting will be held on Monday, April 19, 2004, from 5:30-7:30 p.m.

ADDRESSES: The meeting will be held at the National Capital Planning Commission office, 401 9th Street, NW., North Lobby, Suite 500, Washington, DC 20576.

SUPPLEMENTARY INFORMATION: The draft plan is available under Publications on the Commission's Web site at www.ncpc.gov. Printed copies will be available upon request. Individuals interested in testifying at the public meetings should call the National Capital Planning Commission at (202) 482-7200. A sign-up sheet will also be available before the start of each public session. Those testifying will be limited to three minutes and will speak in the order they signed up. Written comments may be mailed to Comprehensive Plan Public Comment, National Capital Planning Commission, 401 9th Street, NW., North Lobby, Suite 500, Washington, DC 20576. Comments may also be sent by fax at (202) 482-7252 or by e-mail to comment@ncpc.gov. The public comment period closes May 3, 2004.

FOR FURTHER INFORMATION CONTACT: Ramona Taylor, (202) 482-7252.

Dated: March 25, 2004.
Wayne Costa,
Acting General Counsel & Designated Federal Register Officer.

[FR Doc. 04-7166 Filed 3-29-04; 8:45 am]

BILLING CODE 7520-01-M